DEPARTMENT OF TRANSPORTATION

Federal Aviation Administration

Draft Re-Evaluation for Environmental Impact Statement: Sikorsky Memorial Airport, Stratford, CT

AGENCY: Federal Aviation Administration (FAA), DOT.

ACTION: Notice of availability.

SUMMARY: The FAA is issuing this notice to advise the public that a Draft Re-Evaluation for an Environmental Impact Statement (EIS) has been prepared for Sikorsky Memorial Airport in Stratford, Connecticut.

FOR FURTHER INFORMATION CONTACT: Richard Doucette, Environmental Program Manager, Federal Aviation Administration New England, 12 New England Executive Park, Burlington, MA. (781) 238-7613.

SUPPLEMENTARY INFORMATION: The FAA is making available a Draft Re-Evaluation document, which evaluates the impacts of Runway Safety Areas and other airfield improvements at Sikorsky Memorial Airport in Stratford, Connecticut. The document will assist the FAA in determining the suitability of the May 1999 EIS and October 1999 Record of Decision (ROD). No action has been taken on the prior EIS or ROD. The Re-Evaluation document is available for review during normal business hours at the following locations:

FAA New England Region, 16 New England Executive Park, Burlington, MA, 781-238-7613.

Stratford Public Library, 2203 Main St., Stratford, CT, 203-385-4161.

Bridgeport Public Library, Borroughs Bldg., 925 Broad St., Bridegport, CT, 203-576-7777.

Igor Sikorsky Memorial Airport, Administration Bldg., 1000 Great Meadow Dr., Stratford, CT, 203-576-8162.

A public hearing will be held to solicit public comment on the document. The hearing will be held on September 22 at the Stratford Ramada Inn, 225 Lordshop Blvd., Stratford, Connecticut at 7 p.m. Public comments will be accepted through September 30, 2010.

Issued on: August 27, 2010.
LaVerne F. Reid,
Manager, Airports Division.

[FR Doc. 2010-22823 Filed 9-13-10; 8:45 am]

BILLING CODE 4910-13-P